TENNESSEE VALLEY AUTHORITY

Sunshine Act Meeting Notice

Meeting No. 15-03

The TVA Board of Directors will hold a public meeting on August 21, 2015, in the TVA West Tower Auditorium, 400 West Summit Hill Drive, Knoxville, Tennessee. The public may comment on any agenda item or subject at a public listening session which begins at 8:30 a.m. (ET). Following the end of the public listening session, the meeting will be called to order to consider the agenda items listed below. On-site registration will be available until 15 minutes before the public listening session begins at 8:30 a.m. (ET). Preregistered speakers will address the Board first. TVA management will answer questions from the news media following the Board meeting.

Status: Open.

Agenda

Chair's Welcome

Old Business

Approval of minutes of the May 7, 2015, Board Meeting

New Business

1. Report from President and CEO

2. Report of the External Relations Committee

A. Integrated Resource Plan

3. Report of the Finance, Rates, and Portfolio Committee

A. FY 2016 financial plan and budget

B. Financing authority

C. Rate adjustment/fuel cost adjustment

D. Rate and product changes

4. Report of the Audit, Risk, and Regulation Committee

A. FY 2016 external auditor selection

B. Billing adjustment policy

C. Local rate adjustment process

5. Report of the People and Performance Committee

A. Corporate goals

6. Report of the Nuclear Oversight Committee

7. Chair Report

A. Committee assignments

8. Information Items

A. Raccoon Mountain insurance settlement

B. Power supply and related arrangements with an industrial customer

C. Power supply and related arrangements with an industrial customer

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: August 14, 2015.
Clifford L. Beach,
Associate General Counsel.

[FR Doc. 2015-20558 Filed 8-18-15; 4:15 pm]

BILLING CODE 8120-08-P